NATIONAL SCIENCE FOUNDATION

Notice of Permit Modification Received Under the Antarctic Conservation Act of 1978

AGENCY: National Science Foundation.

ACTION: Notice of Permit Modification Request Received and Permit Issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at Title 45 Part 671 of the Code of Federal Regulations. This is the required notice of a requested permit modification and permit issued.

FOR FURTHER INFORMATION CONTACT: Li Ling Hamady, ACA Permit Officer, Division of Polar Programs, Rm. 755, National Science Foundation, 4201 Wilson Boulevard, Arlington, VA 22230. Or by email: ACApermits@nsf.gov.

SUPPLEMENTARY INFORMATION: The Foundation issued a permit (ACA 2012-WM-002) to Dr. George Watters on September 29, 2011. The issued permit allows the applicant to operate a remote field camp in ASPA 149 Cape Shirreff, Livingston Island.

Now the applicant proposes a permit modification to install up to 10 remote, autonomous, and easily removable camera systems at the U.S. AMLR study sites within ASPA 149 to breeding aggregations of gentoo and chinstrap penguins and Antarctic fur seals and other pinnipeds. The cameras would provide time-lapse photography during breeding and non-breeding seasons to estimate key monitoring parameters such as arrival timing, reproductive chronology and success, young production, overwinter attendance, and census data. The camera deployment at this site would be identical in nature to the camera deployment already approved for the applicant within ASPA 128, at Copacabana, King George Island. The Environmental Officer has reviewed the modification request and has determined that the amendment is not a material change to the permit, and it will have a less than a minor or transitory impact.

DATES: September 16, 2015 to April 1, 2016.

The permit modification was issued on September 16, 2015.

Nadene G. Kennedy,
Polar Coordination Specialist, Division of Polar Programs.

[FR Doc. 2015-24001 Filed 9-21-15; 8:45 am]

BILLING CODE 7555-01-P